DEPARTMENT OF ENERGY

Federal Energy Regulatory Commission

[Docket No. IC16-13-000]

Commission Information Collection Activities (FERC-547); Comment Request; Extension

AGENCY: Federal Energy Regulatory Commission.

ACTION: Notice of information collection and request for comments.

SUMMARY: In compliance with the requirements of the Paperwork Reduction Act of 1995, 44 U.S.C. 3506(c)(2)(A), the Federal Energy Regulatory Commission (Commission or FERC) is soliciting public comment on the currently approved information collection, FERC-547 (Gas Pipeline Rates: Refund Report Requirements).

DATES: Comments on the collection of information are due September 27, 2016.

ADDRESSES: You may submit comments (identified by Docket No. IC16-13-000) by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: Gas Pipeline Rates: Refund Report Requirements.

OMB Control No.: 1902-0084.

Type of Request: Three-year extension of the FERC-547 information collection requirements with no changes to the current reporting requirements.

Abstract: The Commission uses FERC-547 (Gas Pipeline Rates: Refund Report Requirements) to implement the statutory refund provisions governed by Sections 4, 5 and 16 of the Natural Gas Act (NGA).¹ Sections 4 and 5 authorize the Commission to order a refund (with interest) for any portion of a natural gas company's increased rate or charge found to be unjust or unreasonable. Refunds may also be instituted by a natural gas company as a stipulation to a Commission-approved settlement agreement or a provision under the company's tariff. Section 16 of the NGA authorizes the Commission to prescribe rules and regulations necessary to administer its refund mandates. The Commission's refund reporting requirements are located in 18 CFR 154.501 and 154.502.

¹ 15 U.S.C. 717-717w.

The Commission uses the data to monitor refunds owed by natural gas companies to ensure that the flow-through of refunds owed by these companies are made as expeditiously as possible and to assure that refunds are made in compliance with the Commission's regulations.

Type of Respondents: Natural gas companies.

Estimate of Annual Burden: ² The Commission estimates the annual public reporting burden for the information collection as:

² The Commission defines burden as the total time, effort, or financial resources expended by persons to generate, maintain, retain, or disclose or provide information to or for a Federal agency. For further explanation of what is included in the information collection burden, reference 5 Code of Federal Regulations 1320.3.

³ The cost is based on FERC's 2016 average cost (salary plus benefits) of $74.50/hour. The Commission staff believes that the industry's level and skill set is comparable to FERC.

FERC—547: Gas Pipeline Rates: Refund Report Requirements
Number of respondents | Annual number of responses per respondent | Total humber of responses | Average burden & cost per response ⁵ | Total annual burden hours & total annual cost | Cost per respondent ($)
| (1) | (2) | (1)×(2)=(3) | (4) | (3)*(4)=(5) | (5)÷(1)
Natural Gas Pipelines | 11 | 1 | 11 | 75 hrs.; $5,587.50 | 825 hrs.; $61,462.50 | $5,587.50

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: July 25, 2016.
Kimberly D. Bose,
Secretary.

[FR Doc. 2016-18039 Filed 7-28-16; 8:45 am]

BILLING CODE 6717-01-P